DEPARTMENT OF HEALTH AND HUMAN SERVICES

Administration for Children and Families

Proposed Information Collection Activity; Comment Request

Proposed Projects

Title: Federally Assisted State Transmitted Levy (FAST Levy).

OMB No.: New Collection.

Description: State IV-D child support enforcement agencies are required to secure assets in cases where there is a support arrearage to satisfy any current support obligation and the arrearage by attaching and seizing assets of the obligor held in financial institutions. To assist states in fulfilling this statutory requirement the federal Office of Child Support Enforcement (OCSE) is proposing a new information collection using the Federally Assisted State Transmitted Levy (FAST Levy), a new application within the Federal Parent Locator Service's Portal. FAST Levy is a centralized, secure and automated method of collecting and disseminating electronic levy notices between child support enforcement agencies and multistate financial institutions to secure the assets in an obligor's account.

The anticipated impact of employing FAST Levy is the significant reduction in existing delays to execute a levy notice, thereby diminishing opportunity for an obligor to close accounts; increase collections of past-due payments to state agencies and families; cut the states' and multistate financial institutions administrative and implementation costs of manually executing levy notices; and strengthen document security.

The proposed information collection using the FAST Levy application is authorized by: (1) 42 U.S.C. 652(a)(7), which requires OCSE to provide technical assistance to state child support agencies to help them establish effective systems for collecting child and spousal support; (2) 42 U.S.C. 666 (a)(2) and (c)(1)(G)(ii), which requires state child support agencies to secure assets of an obligor to satisfy past due support orders; and (3) 45 CFR 303.7(a)(5), which requires state child support agencies to transmit requests for information and provide requested information electronically to the greatest extent possible.

Respondents: Multistate Financial Institutions and State Child Support Enforcement Agencies

Annual Burden Estimates
Instrument | Number of respondents | Number of responses per respondent | Average burden hours per response | Total burden hours
Multistate financial institutions | 5 | 1 | 317.5 | 1,587.5
State Child Support Enforcement Agencies | 7 | 1 | 317.5 | 2,222.5

Estimated Total Annual Burden Hours: 3,810.

In compliance with the requirements of Section 3506(c)(2)(A) of the Paperwork Reduction Act of 1995, the Administration for Children and Families is soliciting public comment on the specific aspects of the information collection described above.

Copies of the proposed collection of information can be obtained and comments may be forwarded by writing to the Administration for Children and Families, Office of Administration, Office of Information Services, 370 L'Enfant Promenade, SW., Washington, DC 20447, Attn: ACF Reports Clearance Officer. Email address infocollection@acf.hhs.gov. All requests should be identified by the title of the information collection.

The department specifically requests comments on: (a) Whether the proposed collection of information is necessary for the proper performance of the functions of the agency, including whether the information shall have practical utility; (b) the accuracy of the agency's estimate of the burden of the proposed collection of information; (c) the quality, utility, and clarity of the information to be collected; and, (d) ways to minimize the burden of the collection of information on respondents, including through the use of automated collection techniques or other forms of information technology. Consideration will be given to comments and suggestions submitted within 60 days of this publication.

Robert Sargis,
Report Clearance Officer.

[FR Doc. 2013-12664 Filed 5-28-13; 8:45 am]

BILLING CODE P